OFFICE OF MANAGEMENT AND BUDGET

Proposed Risk Assessment Bulletin

AGENCY: Office of Management and Budget.

ACTION: Notice of proposed Bulletin and request for comments.

SUMMARY: As part of an ongoing effort to improve the quality, objectivity, utility, and integrity of information disseminated by the Federal Government to the public, the Office of Management and Budget (OMB), in consultation with the Office of Science and Technology Policy (OSTP), has referred to the National Academy of Sciences (NAS), for their expert review, new guidance to enhance the quality and objectivity of risk assessments produced by the Federal Government. OMB will also be accepting public comment on this document until June 15, 2006.

DATES: Written comments regarding OMB's Proposed Risk Assessment Bulletin are due by June 15, 2006. This date has been selected in order to permit the public to participate in a related workshop to be organized by the NAS, prior to submitting their written comments.

ADDRESSES: Because of potential delays in OMB's receipt and processing of mail, respondents are strongly encouraged to submit comments electronically to ensure timely receipt. We cannot guarantee that comments mailed will be received before the comment closing date. Electronic comments may be submitted to: OMB_RAbulletin@omb.eop.gov. Please put the full body of your comments in the text of the electronic message and as an attachment. Please include your name, title, organization, postal address, telephone number and e-mail address in the text of the message. Please be aware that all comments are available for public inspection. Accordingly, please do not submit comments containing trade secrets, confidential or proprietary commercial or financial information, or other information that you do not want to be made available to the public. Comments also may be submitted via facsimile to (202) 395-7245.

FOR FURTHER INFORMATION CONTACT: Dr. Nancy Beck, Office of Information and Regulatory Affairs, Office of Management and Budget, 725 17th Street, NW., New Executive Office Building, Room 10201, Washington, DC 20503. Telephone (202) 395-3093.

SUPPLEMENTARY INFORMATION: OMB is seeking comments on its Proposed Risk Assessment Bulletin by June 15, 2006. The proposed Risk Assessment Bulletin is posted on OMB's Web site, http://www.whitehouse.gov/omb/inforeg/infopoltech.html#iq.

John D. Graham,
Administrator, Office of Information and Regulatory Affairs.

[FR Doc. E6-345 Filed 1-13-06; 8:45 am]

BILLING CODE 3110-01-P